NUCLEAR REGULATORY COMMISSION

Geologic Repository Operations Area Security and Material Control and Accounting Requirements; Meeting Cancellation

AGENCY: Nuclear Regulatory Commission.

ACTION: Cancellation of Public Meeting.

SUMMARY: The Nuclear Regulatory Commission (NRC) is issuing this notice to announce cancellation of the public meeting scheduled for January 23, 2008, in Las Vegas, Nevada, and announced in the Federal Register December 31, 2007 (72 FR 74352). The purpose of the meeting was to solicit public comments on a proposed rule on Geologic Repository Operations Area Security and Material Control and Accounting Requirements that was published for public comment (72 FR 72522; December 20, 2007). This meeting will not be rescheduled. NRC will still accept public comments on the proposed rule during the comment period; comments may be mailed to the NRC or submitted via fax or e-mail.

DATES: The meeting cancelled by this notice was scheduled for January 23, 2008 from 3 p.m. to 7 p.m.

ADDRESSES: The meeting was to have been held in the NRC Hearing Facility at the Pacific Enterprise Plaza, Building One, 3250 Pepper Lane, Las Vegas, NV 89120.

FOR FURTHER INFORMATION CONTACT: Merri Horn, telephone (301) 415-8126, e-mail, mlh1@nrc.gov of the Office of Federal and State Materials and Environmental Management Programs, U.S. Nuclear Regulatory Commission, Washington, DC 20555-0001.

SUPPLEMENTARY INFORMATION: The public meeting scheduled for January 23, 2008, for the purpose of obtaining stakeholder comments on the Geologic Repository Operations Area Security and Material Control and Accounting Requirements Proposed Rule has been cancelled and will not be rescheduled. The NRC is cancelling this meeting as we are evaluating the implications of NRC's fiscal year 2008 appropriation from Congress for NRC's high-level radioactive waste program. The public may still submit comments on the proposed rule. The proposed rule is available via the Federal eRulemaking Portal http://www.regulations.gov.

Dated at Rockville, Maryland, this 11th day of January, 2008.
For the Nuclear Regulatory Commission.
Dennis K. Rathbun,
Director, Division of Intergovernmental Liaison and Rulemaking, Office of Federal and State Materials and Environmental Management Programs.

[FR Doc. E8-873 Filed 1-17-08; 8:45 am]

BILLING CODE 7590-01-P